MERIT SYSTEMS PROTECTION BOARD

5 CFR Part 1201

Practices and Procedures

AGENCY: Merit Systems Protection Board.

ACTION: Final rule.

SUMMARY: The Merit Systems Protection Board (MSPB or the Board) is amending its rules of practice and procedure in this part to reflect the relocation of its Western Regional Office.

DATES: Effective Date: October 16, 2017.

FOR FURTHER INFORMATION CONTACT: Jennifer Everling, Acting Clerk of the Board, Merit Systems Protection Board, 1615 M Street NW., Washington, DC 20419; phone: (202) 653-7200; fax: (202) 653-7130; or email: mspb@mspb.gov.

SUPPLEMENTARY INFORMATION: On October 13, 2017, MSPB will relocate its Western Regional Office from 201 Mission Street, San Francisco, CA, to 1301 Clay Street, Oakland, CA. Appendix II of this part is amended to show the new address. The facsimile number is changing to (510) 273-7136. The geographical areas served by the Western Regional Office are unchanged. The Board is publishing this as a final rule pursuant to 5 U.S.C. 1204(h).

List of Subjects in 5 CFR Part 1201

Administrative practice and procedure.

Accordingly, the Board amends 5 CFR part 1201 as follows:

PART 1201—PRACTICES AND PROCEDURES

1. The authority citation for part 1201 continues to read as follows:

Authority: 5 U.S.C. 1204, 1305, and 7701, and 38 U.S.C. 4331, unless otherwise noted.

Appendix II to Part 1201—[Amended]

2. Amend Appendix II to part 1201 in item 5 by removing “201 Mission Street, Suite 2310, San Francisco, California 94105-1831 Facsimile No.: (415) 904-0580” and adding, in its place, “1301 Clay Street, Suite 1380N, Oakland, California 94612-5217, Facsimile No.: (510) 273-7136.”

Jennifer Everling,
Acting Clerk of the Board.

[FR Doc. 2017-21890 Filed 10-10-17; 8:45 am]

BILLING CODE 7400-01-P